DEPARTMENT OF TRANSPORTATION

Federal Aviation Administration

14 CFR Part 39

[Docket No. FAA-2005-22120; Directorate Identifier 2004-NM-92-AD; Amendment 39-14360; AD 2005-23-02]

RIN 2120-AA64

Airworthiness Directives; Airbus Model A319-100 Series Airplanes, Model A320-111 Airplanes, Model A320-200 Series Airplanes, and Model A321-100 Series Airplanes

AGENCY: Federal Aviation Administration (FAA), Department of Transportation (DOT).

ACTION: Final rule.

SUMMARY: The FAA is adopting a new airworthiness directive (AD) for certain Airbus Model A319-100 series airplanes, Model A320-111 airplanes, Model A320-200 series airplanes, and Model A321-100 series airplanes equipped with any additional center tank (ACT). This AD requires identifying the part number of the ACT and, for certain ACTs, replacing the outer ACT manhole cover and seal. This AD results from reports of an ACT fuel transfer failure due to air leakage around the seal of the outer manhole covers of the ACTs. We are issuing this AD to prevent this leakage, which could result in fuel or fuel vapor leaking into the cargo compartment, and consequent increased risk of a fire in the cargo compartment.

DATES: This AD becomes effective December 19, 2005.

The Director of the Federal Register approved the incorporation by reference of a certain publication listed in the AD as of December 19, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A319-100 series airplanes, Model A320-111 airplanes, Model A320-200 series airplanes, and Model A321-100 series airplanes equipped with certain additional center tanks (ACT). That NPRM was published in the Federal Register on August 17, 2005 (70 FR 48336). That NPRM proposed to require identifying the part number (P/N) of the ACT and, for certain ACTs, replacing the outer ACT manhole cover and seal.

Comments

We provided the public the opportunity to participate in the development of this AD. We have considered the single comment received. The commenter supports the NPRM.

Additional Service Bulletin Information

After the NPRM was issued Airbus released Revision 02 of service bulletin A321-28-1105, dated March 11, 2005. We have reviewed it, and it is substantially similar to Revision 01, which was referred to in the NPRM as the acceptable source of service information. We have revised paragraph (g) of this AD to refer to Revision 02 of the service bulletin as the acceptable source of service information, and to give credit for doing Revision 01 before the effective date of this AD.

Clarification of Alternative Method of Compliance (AMOC) Paragraph

We have revised this action to clarify the appropriate procedure for notifying the principal inspector before using any approved AMOC on any airplane to which the AMOC applies.

Conclusion

We have carefully reviewed the available data, including the comment received, and determined that air safety and the public interest require adopting the AD with the change described previously. We have determined that this change will neither increase the economic burden on any operator nor increase the scope of the AD.

Costs of Compliance

The following table provides the estimated costs for U.S. operators to comply with this AD.

Estimated Costs
Action | Work hours | Average hourly labor rate | Parts | Cost per airplane | Number of U.S.-registered airplanes | Fleet cost
P/N identification | 1 | $65 | $0 | $65 | 28 | $1,820

Authority for this Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-02 Airbus: Amendment 39-14360. Docket No. FAA-2005-22120; Directorate Identifier 2004-NM-92-AD.

Effective Date

(a) This AD becomes effective December 19, 2005.

Affected ADs

(b) None.

Applicability

(c) This AD applies to Airbus Model A319-111, -112, -113, -114, -115, -131, -132, and -133 airplanes; Model A320-111, -211, -212, -214, -231, -232, and -233 airplanes; and Model A321-111, -112, and -131 airplanes; certificated in any category; which are equipped with any additional center tank (ACT).

Unsafe Condition

(d) This AD was prompted by reports of an ACT fuel transfer failure due to air leakage around the seal of the outer manhole covers of the ACTs. We are requiring this AD to prevent this leakage, which could result in fuel or fuel vapor leaking into the cargo compartment, and consequent increased risk of a fire in the cargo compartment.

Compliance

(e) You are responsible for having the actions required by this AD performed within the compliance times specified, unless the actions have already been done.

Part Number Identification

(f) Within 30 days (for Model A319-111, -112, -113, -114, -115, -131, -132, and -133 airplanes) or 12 months (for Model A320-111, -211, -212, -214, -231, -232, and -233 airplanes; and Model A321-111, -112, and -131 airplanes) after the effective date of this AD: Determine whether the part number (P/N) of each ACT installed on the airplane is included in Table 1 of this AD. If no ACT installed on the airplane has a P/N included in Table 1 of this AD, no further work is required by this paragraph.

Table 1.—Affected ACT P/Ns
D2827091100000
D2827091100200
D2827091100600
D2827091300000
D2827091300200
D2827091300400
D2827105100000
D2827105100200
D2827105100400
D2827105200000
D2827105200200
D2827105200400
D2827105300000
D2827105300200
D2827105300400
D2827105400000
D2827105400200
D2827105400400
D2827105400600
D2827105400800
D2827105500000
D2827105500200
D2827105500400
D2827105600000
D2827105600200
D2827105600400
D2827107500000
D2827107500200

Manhole Cover/Seal Replacement

(g) Within 30 days (for Model A319-111, -112, -113, -114, -115, -131, -132, and -133 airplanes) or 12 months (for Model A320-111, -211, -212, -214, -231, -232, and -233 airplanes; and Model A321-111, -112, and -131 airplanes) after the effective date of this AD: For each ACT P/N listed in Table 1 of this AD: Before further flight, replace the outer ACT manhole cover with a reinforced manhole cover and replace the outer manhole cover seal with a new seal, in accordance with the Accomplishment Instructions of Airbus Service Bulletin A320-28-1105, Revision 02, dated March 11, 2005. Replacements are also acceptable if done before the effective date of this AD in accordance with Airbus Service Bulletin A320-28-1105, Revision 01, dated March 18, 2003; and Airbus Service Bulletin A320-28-1105, dated October 22, 2002.

Parts Installation

(h) As of the effective date of this AD, no person may install an ACT having any P/N listed in Table 1 of this AD, unless the actions required by paragraph (g) of this AD have been done for that ACT.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2004-038, dated March 17, 2004, also addresses the subject of this AD.

Material Incorporated by Reference

(k) You must use Airbus Service Bulletin A320-28-1105, Revision 02, dated March 11, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington on October 26, 2005.
Kalene C. Yanamura,
Acting Manager, Transport Airplane Directorate, Aircraft Certification Service.

[FR Doc. 05-22219 Filed 11-10-05; 8:45 am]

BILLING CODE 4910-13-P